DEPARTMENT OF ENERGY

National Energy Technology Laboratory; Notice of Availability of a Funding Opportunity Announcement

AGENCY: National Energy Technology Laboratory (NETL), Department of Energy (DOE).

ACTION: Notice of availability of a funding opportunity announcement.

SUMMARY: Notice is hereby given of the intent to issue Funding Opportunity Announcement No. DE-PS26-04NT42064 entitled “Mining Industry of the Future Grand Challenge Technology Concepts for the Mining Industry.” NETL, on behalf of the Energy Efficiency Renewable Energy (EERE)-ITP Industrial Technologies Program (ITP), is seeking cost-shared research and development applications for technologies which will reduce energy consumption, enhance economic competitiveness, and reduce environmental impacts of the domestic mining industry.

DATES: The draft funding opportunity announcement will be available on the “Industry Interactive Procurement System” (IIPS) Web page located at http://e-center.doe.gov on or about February 9, 2004. The final funding opportunity announcement will also be available on the “Industry Interactive Procurement System” (IIPS) Web page located at http://e-center.doe.gov on or about March 1, 2004. Applicants can also obtain access to the draft and final funding opportunity announcements through DOE/NETL's Web site at http://www.netl.doe.gov/business. Questions and comments regarding the content of the announcement should be submitted through the “Submit Question” feature of IIPS at http://e-center.doe.gov. Locate the announcement on IIPS and then click on the “Submit Question” button. You will receive an electronic notification that your question has been answered. Responses to questions may be viewed through the “View Questions” feature. If no questions have been answered, a statement to that effect will appear. You should periodically check “View Questions” for new questions and answers.

FOR FURTHER INFORMATION CONTACT: Crystal A. Sharp, MS I07, U.S. Department of Energy, National Energy Technology Laboratory, P.O. Box 880/3610 Collins Ferry Road, E-mail Address: crystal.sharp@netl.doe.gov, Telephone Number: 304-285-4442.

SUPPLEMENTARY INFORMATION: While the mining industry uses many of the latest evolutionary technologies in their operations, further revolutionary energy efficient processes and technological advances in extraction, materials handling, and beneficiation/processing are needed to enable the mining industry to remain competitive. The objective of the targeted announcement is to support the stated national interests by funding research and development (R&D) projects that address technology needs presented at the Grand Challenge workshops in 2003 as well as those described in the Energy Analysis. The Energy Analysis is a presentation showing the results of an energy analysis study to demonstrate where the largest energy saving opportunities are in mining and is located at http://www.oit.doe.gov/mining/pdfs/energyanalysis.pdf. The Grand Challenge Technology Concepts for the Mining Industry “focuses on developing revolutionary energy efficiency improvements in the areas of extraction, materials handling, and beneficiation/processing in the mining industry.” The three key industry-identified research areas are the Energy Efficient Alternatives to Current Technologies in Extraction, Materials Handling, and Beneficiation/Processing that offer the largest opportunities for energy savings presented in the Energy Analysis. The areas of interest are activities in the mining industry that is integral to the operations of Surface Mining, Underground Mining, and Mineral Processing. Surface Mining, also called strip mining, placer mining, trench mining, opencast, opencut mining, and/or open pit mining is done at or near the surface where the overburden can be removed without too much expense. Interests include but are not limited to: solution mining, materials handling, systems integration and automation/robotics for all mining at or near the surface where overburden can be economically removed. Underground Mining is generally done where the valuable mineral is located deep enough where it is not economically viable to be removed by surface mining. Interests include but are not limited to: Near face (such as intelligent or remote controlled robotics), ancillary (activities not directly involved in ore mining such as ventilation and improved health conditions). Maintenance operations and technical services are also of interest. Mineral and Coal Processing encompasses unit processes required to size, separate, and process for eventual use. These processes include comminution (crushing and grinding), sizing (screening or classifying), separation (physical or chemical), dewatering (thickening, filtration, or drying), and hydrometallurgical or chemical processing. The Energy Analysis forms the basis of this announcement and characterizes the three interest areas as follows:

Area of Interest 1: Energy Efficient Alternatives to Current Technologies in Extraction—Extraction is the removal of ore from surface or underground mines. This involves excavating activities such as digging, blasting, breaking, loading and hauling. Interests include revolutionary energy alternatives to mineral processes using equipment or processes to mine and process ore.

Area of Interest 2: Energy Efficient Alternatives to Material Handling—Materials handling is the use of any equipment or process to transport ore and waste. Interests include revolutionary energy alternatives with regard to energy used per unit of output to current technologies involving the use of equipment or processes to handle and transport ore and waste.

Area of Interest 3: Energy Efficient Alternatives to Current Technologies in Beneficiation and Processing—Beneficiation and Processing is the use of equipment or processes to crush, grind, concentrate and/or separating the ore from the unwanted material. Interests include revolutionary energy alternatives with regard to energy use per unit of output to current technologies using equipment or processes to crush, grind, concentrate and/or separating the ore from the unwanted material.

Once released, the funding opportunity announcement will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The funding opportunity announcement will only be made available in IIPS, no hard (paper) copies of the funding opportunity announcement and related documents will be made available. Telephone requests, written requests, E-mail requests, or facsimile requests for a copy of the funding opportunity announcement will not be accepted and/or honored. Applications must be prepared and submitted in accordance with the instructions and forms contained in the announcement.

Issued in Pittsburgh, PA, on February 4, 2004.
Dale A. Siciliano,
Director, Acquisition and Assistance Division.

[FR Doc. 04-3095 Filed 2-11-04; 8:45 am]

BILLING CODE 6450-01-P